COMMODITY FUTURES TRADING COMMISSION

17 CFR Parts 36, 37, 38, 39 and 40

Technical and Clarifying Amendments to Rules for Exempt Markets, Derivatives Transaction Execution Facilities and Designated Contract Markets, and Procedural Changes for Derivatives Clearing Organization Registration Applications

AGENCY: Commodity Futures Trading Commission.

ACTION: Reopening of comment period.

SUMMARY: On July 11, 2005, the Commission published in the Federal Register a request for comments on proposed Technical and Clarifying Amendments to rules for Exempt Markets, Derivatives Transaction Execution Facilities and Designated Contract Markets, and Procedural Changes for Derivatives Clearing Organization Registration Applications. The proposed amendments are intended to: Clarify and codify acceptable practices under the Commission's rules for trading facilities, implemented pursuant to the Commodity Futures Modernization Act of 2000, based on the Commission's experience in applying those rules since they were originally adopted in 2001; and revise the application and review process for designation as a derivatives clearing organization. The original comment period closed on September 9, 2005.

By letter dated September 6, 2005, the New York Mercantile Exchange (“NYMEX”) requested that the comment period be extended 15 days, to September 26, 2005. NYMEX requested the additional time because, due to current extreme energy market conditions, the Exchange staff will be unable to properly circulate its response and obtain the necessary committee approvals and other review necessary to file a comment prior to the original close of the comment period on September 9, 2005.

In response to this request, and in order to ensure that an adequate opportunity is provided for the submission of meaningful comments, the Commission will reopen and extend the comment period on the proposed rules.

DATES: Responses must be received by September 26, 2005.

ADDRESSES: Comments should be sent to the Commodity Futures Trading Commission, Three Lafayette Center, 1155 21st Street, NW., Washington, DC 20581, attention: Office of the Secretariat. Comments may be sent by facsimile transmission to 202-418-5521 or, by e-mail to secretary@cftc.gov. Reference should be made to “Proposed Clarifying Amendments for Exempt Markets, Derivatives Transaction Execution Facilities and Designated Contract Markets, and Procedural Changes for Derivatives Clearing Organization Registration Applications.”

FOR FURTHER INFORMATION CONTACT: Donald Heitman, Senior Special Counsel (telephone 202-418-5041, e-mail dheitman@cftc.gov), Division of Market Oversight, or Lois Gregory, Special Counsel (telephone 202-418-5521, e-mail lgregory@cftc.gov), Division of Clearing and Intermediary Oversight, Commodity Futures Trading Commission, Three Lafayette Center, 1155 21st Street, NW., Washington, DC 20581.

Issued in Washington, DC, on September 8, 2005, by the Commission.
Jean A. Webb,
Secretary of the Commission.

[FR Doc. 05-18174 Filed 9-13-05; 8:45 am]

BILLING CODE 6351-01-M